DEPARTMENT OF JUSTICE

[OMB Number 1105-NEW]

Agency Information Collection Activities: Proposed Collection; Comments Requested: Leased/Charter Flight Personnel Expedited Clearance Request

Correction

In notice document 2012-8934, appearing on page 22346 in the issue of April 13, 2012, make the following correction:

1. On page 22346, in the second column, in the first full paragraph, in the twelfth through fifteenth lines “[The Federal Register will insert the date 60 days from the date this notice is published in the Federal Register].” should read “June 12, 2012.”

[FR Doc. C1-2012-8934 Filed 4-25-12; 8:45 am]

BILLING CODE 1505-01-D